DEPARTMENT OF EDUCATION

Applications for New Awards; Bipartisan Budget Act of 2018—Emergency Assistance to Institutions of Higher Education Program

AGENCY: Office of Postsecondary Education, Department of Education.

ACTION: Notice.

SUMMARY: The Department of Education is issuing a notice inviting pre-applications and applications for the fiscal year (FY) 2018 Emergency Assistance to Institutions of Higher Education Program, Catalog of Federal Domestic Assistance (CFDA) number 84.938T. We will make the pre-applications available upon publication of this notice, and we will make the applications available after review of the pre-applications. We intend to make the applications available 60 days after publication of this notice.

DATES:

Applications Available: May 3, 2018.

Deadline for Transmittal of Pre-Applications: June 4, 2018.

Deadline for Transmittal of Applications: August 1, 2018.

ADDRESSES: The addresses pertinent to this program—including the addresses for obtaining and submitting an application or pre-application—can be found under SUPPLEMENTARY INFORMATION.

FOR FURTHER INFORMATION CONTACT: Beatriz Ceja, U.S. Department of Education, 400 Maryland Avenue SW, Room 260-04, Washington, DC 20202-6200. Telephone: (202) 453-6239. Email: Beatriz.Ceja@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Under the Emergency Assistance to Institutions of Higher Education Program (EAI Program or EAI), we will award grants to eligible institutions of higher education (IHEs) for emergency assistance in areas directly affected by a covered disaster or emergency: Hurricanes Harvey, Irma, and Maria, and the wildfires in calendar year 2017 for which the President declared a major disaster or emergency under section 401 or 501 of the Robert T. Stafford Disaster Relief and Emergency Assistance Act (42 U.S.C. 5170 and 5191) (covered disaster or emergency). Under the Bipartisan Budget Act of 2018 (Budget Act) the funds available under the EAI Program are for programs authorized under subpart 3 of part A and part C of title IV and part B of title VII of the Higher Education Act of 1965 (HEA), as amended (20 U.S.C. 1087-51 et seq.; 20 U.S.C. 1138 et seq.), but the funds may be used for activities beyond those supported by those specific programs. In accordance with the Budget Act, we will award grants to eligible IHEs for emergency assistance for any purpose authorized under the HEA. We will prioritize, to the extent possible, projects that support students who are homeless or at risk of becoming homeless as a result of displacement, and IHEs that have sustained extensive damage, by a covered disaster or emergency.

Exemption From Rulemaking: This program is exempt from the rulemaking requirements in section 437 of the General Education Provisions Act (GEPA) (20 U.S.C. 1232) and section 553 of the Administrative Procedure Act (APA) (5 U.S.C. 553). Division B, Subdivision 1, Title VIII, “Hurricane Education Recovery” paragraph (6), of Public Law 115-123, the “Bipartisan Budget Act of 2018.” 132 Stat. 98.

Program Authority: Bipartisan Budget Act of 2018, Public Law 115-123.

Note: The Budget Act provides that funds provided through the EAI Program must be for certain programs established under the HEA (the Federal Supplemental Educational Opportunity Grant, Federal Work-Study, and the Fund for the Improvement of Postsecondary Education programs), but use of the funds is not limited to the activities authorized under those programs. Funds provided through these grants may be used for student financial assistance, faculty and staff salaries, equipment, student supplies and instruments, or any purpose authorized under the HEA.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian tribes.

II. Award Information

Type of Award: Discretionary grants.

Estimated Available Funds: $100,000,000.

Estimated Maximum Award: $20,000,000.

Estimated Average Size of Awards: $650,000.

Estimated Number of Awards: 150.

Note: The Department is not bound by any estimates in this notice.

Project Period: Grantees must expend funds within 24 months of the award date.

III. Eligibility Information

1. Eligible Applicants: Institutions that (1) meet the definition of “institution of higher education” in section 101 or section 102(a)(1) of the HEA (20 U.S.C. 1001 and 1002(a)(1)), and (2) are located in areas directly affected by a covered disaster or emergency.

Note: Receiving a grant for emergency assistance under the EAI Program does not affect the eligibility of the IHE to apply for funding under any other Department program.

2. a. Cost Sharing or Matching: Any requirements relating to matching, Federal share, reservation of funds, or maintenance of effort under the programs authorized under subpart 3 of part A and part C of title IV and part B of title VII of the HEA, as amended (20 U.S.C. 1087-51 et seq.; 20 U.S.C. 1138 et seq.) that would otherwise apply to EAI grants will not apply.

b. Supplement-Not-Supplant: This program involves supplement-not-supplant funding requirements. Grantees may not use EAI funds to supplant funds that otherwise would have been used for the same purpose, including funds made available through an insurance policy, the Federal Emergency Management Agency, a State, or a nonprofit relief organization. Grantees may use EAI funds to supplement funds from such sources without exceeding the full amount needed to remedy the effects of the covered disaster or emergency. (See Allocation Criteria.)

IV. Application and Submission Information

1. Address To Request Pre-Application or Application Package: Beatriz Ceja, U.S. Department of Education, 400 Maryland Avenue SW, Room 260-04, Washington, DC 20202-6200. Telephone: (202) 453-6239. Email: Beatriz.Ceja@ed.gov.

To obtain a copy via the internet, use the following address: www2.ed.gov/programs/eai/applicant.html.

If you use a TDD or a TTY, call the FRS, toll free, at 1-800-877-8339.

Individuals with disabilities can obtain a copy of the pre-application or the application package in an accessible format (e.g., braille, large print, audiotape, or compact disc) by contacting the program contact person listed in this section.

2. Content and Form of Application Submission: Requirements concerning the content of an application are in the application package for this program.

Pre-Application: IHEs intending to submit an application for funds under this program must first complete and submit a pre-application data information form from which institutional allotments will be calculated. The data form can be downloaded from www.ed.gov/hurricane-help. Complete the form and send it to EAIProgram@ed.gov by the date established under Deadline for Transmittal of Pre-Applications. Within 30 days after the Pre-Application deadline, if the IHE is eligible for funding, the Department will either: (1) Calculate the applicant IHE's allotment and email notice of the amount back to the contact person identified by the IHE on the pre-application form, and the eligible IHEs will then have until August 1, 2018 to submit their application and budget information to the Department through Grants.gov; or (2) request additional information from the eligible IHE in order to calculate the applicant IHE's allotment.

Note: We may consider late pre-applications or applications after on-time submissions are evaluated. We may reserve funds to accommodate additional requests because all of the costs of remedying the effects of the covered disasters or emergencies may not yet be known. No funds will be available after September 30, 2022.

Pre-applications and applications for grants under this program may be submitted in one of two ways:

a. Email an electronic version of your pre-application or application in PDF (Portable Document Format) to EAIProgram@ed.gov, or

b. Mail the original and two copies of your pre-application or application by express mail service through the U.S. Postal Service or through a commercial carrier to Beatriz Ceja, Office of Postsecondary Education, U.S. Department of Education, 400 Maryland Avenue SW, Room 260-04, Washington, DC 20202-6200.

The amount of time it can take to email a document will vary depending on a variety of factors, including the size of the document and the speed of your internet connection. Therefore, we strongly recommend that you do not wait until minutes before the deadline to begin emailing your pre-application or application.

For information on requirements when submitting paper pre-applications or applications, please see the Common Instructions for Applicants to Department of Education Discretionary Grant Programs, published in the Federal Register on February 12, 2018 (83 FR 6003) and available at www.gpo.gov/fdsys/pkg/FR-2018-02-12/pdf/2018-02558.pdf.

3. Accommodations: Individuals with disabilities who need an accommodation or auxiliary aid in connection with the pre-application or application process should contact the person listed under FOR FURTHER INFORMATION CONTACT. If the Department provides an accommodation or auxiliary aid to an individual with a disability in connection with the pre-application or application process, the individual's pre-application or application remains subject to all other requirements and limitations in this notice.

4. Intergovernmental Review: This program is subject to Executive Order 12372 and the regulations in 34 CFR part 79. However, under 34 CFR 79.8(a), we waive intergovernmental review in order to make awards in the applicable timeframe.

5. Funding Restrictions: We reference regulations outlining funding restrictions in the Applicable Regulations section above.

6. Data Universal Numbering System Number, Taxpayer Identification Number, and System for Award Management: To do business with the Department of Education, you must have a Data Universal Numbering System (DUNS) number and a Taxpayer Identification Number, and you must maintain an active System for Award Management (SAM) registration with current information while your application is under review by the Department and, if you are awarded a grant, during the project period. For information on these requirements, please see Common Instructions for Applicants to Department of Education Discretionary Grant Programs, published in the Federal Register (83 FR 6003) and available at www.gpo.gov/fdsys/pkg/FR-2018-02-12/pdf/2018-02558.pdf.

You may access the electronic grant application for the Emergency Assistance to Institutions of Higher Education Program at www.ed.gov/hurricane-help.

Note: Pre-applications and applications must be emailed or mailed as described above. Neither pre-applications nor applications will be accepted through www.grants.gov.

V. Application Review Information

1. Allocation Criteria: The Secretary establishes the following factors as criteria that will be used in allocating these funds:

(a) Expenses. The expenses incurred by the IHE to remedy the effects of the covered disaster or emergency, including the costs of construction and reconstruction associated with physical damage to the IHE caused by the covered disaster or emergency; and

(b) Funds received. Any amount of any insurance settlement or other funds received by the IHE, from any source including a Federal or other relief agency, related to remedying the effects of the covered disaster or emergency.

Additional factors we will consider in making an award are from 34 CFR 75.209(a) and 34 CFR 75.210(a) and include the following.

(c) Priorities. We will prioritize, to the extent possible, projects that support institutions serving students who are homeless or at risk of becoming homeless as a result of displacement, and institutions that have sustained extensive damage, as a result of a covered disaster or emergency.

Note: Such expenses may include work to identify such students, outreach to such students, food, employment, housing, counseling, emergency grants, transportation, and other services, so long as all such expenses are authorized under the Higher Education Act. Applicants should only include those expenses directed to students who are homeless or at risk of becoming homeless, and applicants should not include expenses directed to a larger population of students, even if those expenses have aided some students who were homeless or at risk of becoming homeless. Applicants should, however, include expenses directed toward individual students who are homeless or at risk of becoming homeless, even if similar aid or services have been made available to other students.

(d) Need for Project. The Secretary will consider the need for the proposed project. In determining the need for the proposed project, the Secretary will consider the magnitude or severity of the problem to be addressed by the proposed project.

Note: To consider the magnitude or severity of the problem to be addressed, the Secretary will consider the estimated percentage of operations, as a proportion of the IHE's operations prior to the occurrence of the covered disaster or emergency, that remain impaired as a result of the covered disaster or emergency. This percentage should be estimated on the basis of year-over-year spending or budget, using spring 2017 as the baseline. For example, if the IHE's spring 2017 spending was $100 million and the IHE's spring 2018 budget is $75 million, the applicant should report that the IHE is operating at 75 percent.

An IHE must include information responsive to all four of these criteria in its pre-application.

Note: If, after we review the pre-applications, we determine additional selection criteria are appropriate, we will include those criteria, in addition to the criteria specified in this notice, in the application package.

2. Review and Selection Process: The Secretary will determine the amount of the individual grants to ensure a fair distribution of funds in accordance with statutory requirements.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

The Secretary may solicit, from any applicant at any time, additional information needed to process an application.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

5. Improper Payments—Additional Reporting: The “Bipartisan Budget Act of 2018” designates this program to be “susceptible to significant improper payments” for purposes of the Improper Payments Information Act of 2002 (31 U.S.C. 3321 note). See Public Law 115-123, the “Bipartisan Budget Act of 2018,” Division B, Subdivision 1, Title XII, § 21208(a), Feb. 9, 2018; 132 Stat. 108. Grantees will be required to undertake significant additional reporting as we implement plans to identify and reduce improper payments. We will provide additional information after we make awards.

VI. Award Administration Information

1. Award Notices: If your application is successful, we will notify your U.S. Representative and U.S. Senators and send you a Grant Award Notification (GAN); or we may send you an email containing a link to access an electronic version of your GAN. We also may notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20(c).

4. Reporting: (a) If you apply for a grant, you must ensure that you have in place the necessary processes and systems to comply with the reporting requirements in 2 CFR part 170 should you receive funding. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

VII. Other Information

Accessible Format: Individuals with disabilities can obtain this document and a copy of the pre-application and the application package in an accessible format (e.g., braille, large print, audiotape, or compact disc) on request to the program contact person listed under FOR FURTHER INFORMATION CONTACT.

Electronic Access to This Document: The official version of this document is the document published in the Federal Register. You may access to the official edition of the Federal Register and the Code of Federal Regulations via the Federal Digital System at www.gpo.gov/fdsys. At this site you can view this document, as well as all other documents of this Department published in the Federal Register, in text or PDF. To use PDF you must have Adobe Acrobat Reader, which is available free at the site.

You also may access documents of the Department published in the Federal Register by using the article search feature at www.federalregister.gov. Specifically, through the advanced search feature at this site, you can limit your search to documents published by the Department.

Dated: April 30, 2018.
Frank T. Brogan,
Principal Deputy Assistant Secretary and Delegated the Duties of the Assistant Secretary, Office of Planning, Evaluation and Policy Development, Delegated the Duties of the Assistant Secretary, Office of Postsecondary Education.

[FR Doc. 2018-09417 Filed 5-2-18; 8:45 am]

BILLING CODE 4000-01-P